DEPARTMENT OF ENERGY

Federal Energy Regulatory Commission

Combined Notice of Filings #1

Take notice that the Commission received the following electric corporate filings:

Docket Numbers: EC23-25-000.

Applicants: Public Service Company of Oklahoma, Rock Falls Wind Farm LLC.

Description: Application for Authorization Under Section 203 of the Federal Power Act of Rock Falls Wind Farm LLC et al.

Filed Date: 11/9/22.

Accession Number: 20221109-5144.

Comment Date: 5 p.m. ET 11/30/22.

Take notice that the Commission received the following Complaints and Compliance filings in EL Dockets:

Docket Numbers: EL23-8-000.

Applicants: Cubit Power One, Inc. v. Consolidated Edison Company of New York, Inc.

Description: Complaint of Cubit Power One, Inc. v. Consolidated Edison Company of New York, Inc.

Filed Date: 11/9/22.

Accession Number: 20221109-5110.

Comment Date: 5 p.m. ET 11/29/22.

Take notice that the Commission received the following electric rate filings:

Docket Numbers: ER21-2329-003.

Applicants: Minonk Stewardship Wind LLC.

Description: Compliance filing: Compliance Filing for FERC Order in Docket ER21-2329 to be effective 9/1/2021.

Filed Date: 11/10/22.

Accession Number: 20221110-5001.

Comment Date: 5 p.m. ET 12/1/22.

Docket Numbers: ER23-40-001.

Applicants: Midcontinent Independent System Operator, Inc., Otter Tail Power Company.

Description: Tariff Amendment: Midcontinent Independent System Operator, Inc. submits tariff filing per 35.17(b): 2022-11-10_SA 3913 OTP-NSP Substitute FCA (Forman-Canby-Fergus MPFP) to be effective 12/7/2022.

Filed Date: 11/10/22.

Accession Number: 20221110-5123.

Comment Date: 5 p.m. ET 11/21/22.

Docket Numbers: ER23-402-000.

Applicants: New England Power Pool Participants Committee.

Description: § 205(d) Rate Filing: Nov 2022 Membership Filing II to be effective 11/10/2022.

Filed Date: 11/9/22.

Accession Number: 20221109-5114.

Comment Date: 5 p.m. ET 11/30/22.

Docket Numbers: ER23-403-000.

Applicants: Grain Belt Express LLC.

Description: Request for Prospective Tariff Waiver, et al. of Grain Belt Express LLC.

Filed Date: 11/9/22.

Accession Number: 20221109-5134.

Comment Date: 5 p.m. ET 11/23/22.

Docket Numbers: ER23-404-000.

Applicants: Shullsburg Wind Farm LLC, Grant County Solar, LLC, Red Barn Energy, LLC.

Description: Request for One-Time Limited Waiver of Shullsburg Wind Farm LLC, et al.

Filed Date: 11/9/22.

Accession Number: 20221109-5135.

Comment Date: 5 p.m. ET 11/30/22.

Docket Numbers: ER23-405-000.

Applicants: ISO New England Inc. & New England Power Pool.

Description: ISO New England Inc. submits Installed Capacity Requirement, Hydro Quebec Interconnection Capability Credits and Related Values for the 17 FCA Associated with the 2026/2027 Capacity Commitment Period.

Filed Date: 11/8/22.

Accession Number: 20221108-5168.

Comment Date: 5 p.m. ET 11/29/22.

Docket Numbers: ER23-406-000.

Applicants: FirstEnergy Service Company, PJM Interconnection, L.L.C.

Description: § 205(d) Rate Filing: FirstEnergy Service Company submits tariff filing per 35.13(a)(2)(iii: FirstEnergy Service Co. submits SA No. 6622 Construction Agreement to be effective 1/10/2023.

Filed Date: 11/10/22.

Accession Number: 20221110-5087.

Comment Date: 5 p.m. ET 12/1/22.

Docket Numbers: ER23-407-000.

Applicants: PacifiCorp.

Description: § 205(d) Rate Filing: Generator Replacement Coordinator Agreement to be effective 1/10/2023.

Filed Date: 11/10/22.

Accession Number: 20221110-5109.

Comment Date: 5 p.m. ET 12/1/22.

Docket Numbers: ER23-408-000.

Applicants: PacifiCorp.

Description: § 205(d) Rate Filing: OATT Existing Generator Replacement Procedures to be effective 1/10/2023.

Filed Date: 11/10/22.

Accession Number: 20221110-5111.

Comment Date: 5 p.m. ET 12/1/22.

Docket Numbers: ER23-409-000.

Applicants: Puget Sound Energy, Inc.

Description: § 205(d) Rate Filing: Cost-Based Rate Tariff Filing to be effective 6/17/2022.

Filed Date: 11/10/22.

Accession Number: 20221110-5114.

Comment Date: 5 p.m. ET 12/1/22.

Docket Numbers: ER23-410-000.

Applicants: Sandy Ridge Wind, LLC.

Description: § 205(d) Rate Filing: Co-Tenancy and Shared Facilities Agreement with Waivers to be effective 11/11/2022.

Filed Date: 11/10/22.

Accession Number: 20221110-5128.

Comment Date: 5 p.m. ET 12/1/22.

Docket Numbers: ER23-411-000.

Applicants: Sandy Ridge Wind 2, LLC.

Description: Baseline eTariff Filing: Certificate of Concurrence and Request for Waiver and Blanket Approval to be effective 11/11/2022.

Filed Date: 11/10/22.

Accession Number: 20221110-5132.

Comment Date: 5 p.m. ET 12/1/22.

Docket Numbers: ER23-412-000.

Applicants: National Grid Generation LLC.

Description: § 205(d) Rate Filing: A&R PSA Amendment No. 4 to be effective 2/1/2023.

Filed Date: 11/10/22.

Accession Number: 20221110-5135.

Comment Date: 5 p.m. ET 12/1/22.

Docket Numbers: ER23-413-000.

Applicants: Midcontinent Independent System Operator, Inc.

Description: § 205(d) Rate Filing: 2022-11-10_Generation Stability Limits and other limitations to be effective 1/10/2023.

Filed Date: 11/10/22.

Accession Number: 20221110-5141.

Comment Date: 5 p.m. ET 12/1/22.

Docket Numbers: ER23-414-000.

Applicants: Tri-State Generation and Transmission Association, Inc.

Description: § 205(d) Rate Filing: Amendment to Service Agreement FERC No. 808 to be effective 10/24/2022.

Filed Date: 11/10/22.

Accession Number: 20221110-5172.

Comment Date: 5 p.m. ET 12/1/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 10, 2022.
Debbie-Anne A. Reese,
Deputy Secretary.

[FR Doc. 2022-25026 Filed 11-16-22; 8:45 am]

BILLING CODE 6717-01-P